DEPARTMENT OF TRANSPORTATION

Federal Aviation Administration

14 CFR Part 39

[Docket No. FAA-2005-20024; Directorate Identifier 2004-NM-66-AD; Amendment 39-14100; AD 2005-10-22]

RIN 2120-AA64

Airworthiness Directives; Boeing Model 747-200C and 747-200F Series Airplanes

AGENCY: Federal Aviation Administration (FAA), Department of Transportation (DOT).

ACTION: Final rule.

SUMMARY: The FAA is adopting a new airworthiness directive (AD) for all Boeing Model 747-200C and 747-200F series airplanes. This AD requires repetitive inspections for cracking of the left and right C-3 frame upper closure fittings of the nose cargo door, and corrective actions if necessary. This AD also provides an optional modification that, if done, terminates inspections in certain areas. This AD is prompted by reports indicating that fatigue cracking was found in the inboard flange above the flight deck floor on the C-3 frame upper closure fittings of the nose cargo door. We are issuing this AD to detect and correct cracking of the C-3 frame upper closure fittings, which could extend and result in rapid depressurization of the airplane.

DATES: This AD becomes effective June 27, 2005.

The incorporation by reference of a certain publication listed in the AD is approved by the Director of the Federal Register as of June 27, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20024; the directorate identifier for this docket is 2004-NM-66-AD.

FOR FURTHER INFORMATION CONTACT: Ivan Li, Aerospace Engineer, Airframe Branch, ANM-120S, FAA, Seattle Aircraft Certification Office, 1601 Lind Avenue, SW., Renton, Washington 98055-4056; telephone (425) 917-6437; fax (425) 917-6590.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR Part 39 with an AD for all Boeing Model 747-200C and 747-200F series airplanes. That action, published in the Federal Register on January 18, 2005 (70 FR 2826), proposed to require repetitive inspections for cracking of the left and right C-3 frame upper closure fittings of the nose cargo door, and corrective actions if necessary. That action also provides an optional modification that, if done, would terminate inspections in certain areas.

Comments

We provided the public the opportunity to participate in the development of this AD. We have considered the comments that have been submitted on the proposed AD.

Support for the Proposed AD

One commenter concurs with the proposed AD.

Request for Credit for Actions Accomplished Previously

Another commenter has no technical objection to the proposed AD, but requests that we recognize inspections accomplished before the effective date of the AD as acceptable for compliance with the initial inspection requirement. The commenter states that it has previously accomplished the proposed requirements on some of its airplanes during scheduled maintenance visits.

We agree with the commenter that any applicable inspection accomplished before the effective date of this AD should be acceptable for compliance with the initial inspection requirement. However, we find that no change is necessary to meet the intent of the commenter's request. Credit is always given for actions accomplished before the effective date of an AD, as allowed by paragraph (e) of this AD: “You are responsible for having the actions required by this AD performed within the compliance times specified, unless the actions have already been done.” The phrase “unless the actions have already been done,” gives the credit that the commenter is seeking. We have not changed the AD in this regard.

Conclusion

We have carefully reviewed the available data, including the comments that have been submitted, and determined that air safety and the public interest require adopting the AD as proposed.

Costs of Compliance

This AD affects about 78 airplanes worldwide. The following table provides the estimated costs for U.S. operators to comply with this AD.

Estimated Costs
Action | Work hours | Average labor rate per hour | Parts | Cost per airplane | Number of U.S.-registered airplanes | Fleet cost
Inspection | 2 | $65 | None | $130, per inspection cycle | 20 | $2,600, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-10-22 Boeing: Amendment 39-14100. Docket No. FAA-2005-20024; Directorate Identifier 2004-NM-66-AD.

Effective Date

(a) This AD becomes effective June 27, 2005.

Affected ADs

(b) None.

Applicability

(c) This AD applies to all Boeing Model 747-200C and 747-200F series airplanes, certificated in any category.

Unsafe Condition

(d) This AD was prompted by a report indicating that fatigue cracking was found in the inboard flange above the flight deck floor on the C-3 frame upper closure fittings of the nose cargo door. We are issuing this AD to detect and correct cracking of the C-3 frame upper closure fittings, which could extend and result in rapid depressurization of the airplane.

Compliance

(e) You are responsible for having the actions required by this AD performed within the compliance times specified, unless the actions have already been done.

Repetitive Inspections

(f) Do a detailed inspection of the left and right C-3 frame upper closure fittings of the nose cargo door, including the flight deck floor tang, according to the Accomplishment Instructions of Boeing Alert Service Bulletin 747-53A2495, dated December 18, 2003. Do the initial inspection at the applicable compliance time specified in Figure 1 (Group 1 and 2 airplanes) or 2 (Group 3 and 4 airplanes) of the service bulletin, as applicable; except, where the service bulletin specifies a compliance time relative to the date of the initial release of the service bulletin, this AD requires compliance relative to the effective date of this AD. Repeat the inspection thereafter at intervals not to exceed 3,000 flight cycles, except as provided by paragraph (h) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repair/Replacement

(g) If any cracking is found during any inspection required by this AD: Before further flight, do applicable repairs or replace the fitting with a new fitting, according to the Accomplishment Instructions of Boeing Alert Service Bulletin 747-53A2495, dated December 18, 2003; except, where the bulletin specifies to contact Boeing for appropriate action, before further flight, repair in accordance with a method approved by the Manager, Seattle Aircraft Certification Office (ACO), FAA; or in accordance with data meeting the certification basis of the airplane approved by an Authorized Representative for the Boeing Delegation Option Authorization Organization who the Manager, Seattle ACO, has authorized to make this finding. For a repair method to be approved by the Manager, Seattle ACO, as required by this paragraph, the Manager's approval letter must specifically reference this AD.

Optional Modification

(h) Doing all actions associated with the modification of the upper closure fitting, including performing an open-hole high frequency eddy current inspection for cracking of certain fastener holes and all applicable corrective actions; according to Figure 4 of the Accomplishment Instructions of Boeing Alert Service Bulletin 747-53A2495, dated December 18, 2003; terminates the repetitive inspections of the upper part of the upper closure fitting required by paragraph (f) of this AD. However, inspections of the flight deck floor tang must continue, as required by paragraph (f) of this AD.

Note 2: There is no terminating action available at this time for the inspections of the flight deck floor tang required by paragraph (f) of this AD.

No Threshold Adjustment

(i) While Note 4 of the Accomplishment Instructions of Boeing Alert Service Bulletin 747-53A2495, dated December 18, 2003, provides for adjusting the flight cycle threshold specified in the service bulletin by not counting flight cycles with a cabin pressure differential of 2.0 pounds per square inch or less, this AD does not allow this adjustment.

Alternative Methods of Compliance (AMOCs)

(j)(1) The Manager, Seattle ACO, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane and the approval must specifically refer to this AD.

Material Incorporated by Reference

(k) You must use Boeing Alert Service Bulletin 747-53A2495, dated December 18, 2003, to perform the actions that are required by this AD, unless the AD specifies otherwise. The Director of the Federal Register approves the incorporation by reference of this document in accordance with 5 U.S.C. 552(a) and 1 CFR part 51. To get copies of the service information, go to Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 12, 2005.
Jeffrey E. Duven,
Acting Manager, Transport Airplane Directorate, Aircraft Certification Service.

[FR Doc. 05-9981 Filed 5-20-05; 8:45 am]

BILLING CODE 4910-13-P